DEPARTMENT OF HEALTH AND HUMAN SERVICES

Food and Drug Administration

[Docket Nos. FDA-2018-N-3516, FDA 2019-N-0482, FDA-2012-N-0021, FDA-2018-N-4042, FDA-2011-D-0597, FDA-2018-N-4735, FDA-2019-N-0721, FDA-2013-N-1425, FDA-2018-D-3631, and FDA-2011-D-0689]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at http://www.reginfo.gov/public/do/PRAMain. An Agency may not conduct or sponsor, and a person is not required to respond to, a collection of information unless it displays a currently valid OMB control number.

Table 1—List of Information Collections Approved By OMB
Title of collection | OMB control No. | Date approval expires
Disease Awareness and Prescription Drug Promotion on Television | 0910-0874 | 8/31/2021
Reporting Associated with New Animal Drug Applications and Veterinary Master Files | 0910-0032 | 7/31/2022
Substances Generally Recognized as Safe: Notification Procedure | 0910-0342 | 7/31/2022
Establishing and Maintaining Lists of U.S. Product Manufacturers/Processors with Interest in Exporting CFSAN-Regulated Products | 0910-0509 | 7/31/2022
Oversight of Clinical Investigations; A Risk-Based Approach to Monitoring | 0910-0733 | 7/31/2022
Safety Labeling Changes; Implementation of the Federal Food, Drug, and Cosmetic Act | 0910-0734 | 7/31/2022
Accreditation of Third Party Certification Bodies to Conduct Food Safety Audits and Issue Certifications | 0910-0750 | 7/31/2022
Mitigation Strategies to Protect Food Against Intentional Adulteration | 0910-0812 | 7/31/2022
Standards for the Growing, Harvesting, Packaging, and Holding of Produce for Human Consumption | 0910-0816 | 7/31/2022
De Novo Classification Process (Evaluation of Automatic Class III Designation) | 0910-0844 | 8/31/2022

Dated: September 6, 2019.
Lowell J. Schiller,
Principal Associate Commissioner for Policy.

[FR Doc. 2019-19779 Filed 9-11-19; 8:45 am]

BILLING CODE 4164-01-P